DEPARTMENT OF ENERGY

Federal Energy Regulatory Commission

[Project No. 11841-002 Alaska]

Ketchikan Public Utilities; Notice of Availability of Final Environmental Assessment

July 2, 2008.

In accordance with the National Environmental Policy Act of 1969, as amended, and the Federal Energy Regulatory Commission's (Commission or FERC) regulations, 18 CFR Part 380, Commission staff has reviewed the application for an original license for the proposed Whitman Lake Hydroelectric Project (FERC No. 11841-002) and has prepared a final environmental assessment (final EA) for the project. The project would be located on Whitman Creek, approximately 4 miles east of the City of Ketchikan, Alaska. The project would occupy 155.8 acres of lands of the United States, 155 acres administered by the U.S. Department of Agriculture, Forest Service and 0.8 acres administered by the U.S. Bureau of Land Management.

On February 8, 2008, Ketchikan Public Utilities (KPU) filed a multi-party Settlement Agreement. In addition to KPU, the Alaska Department of Fish and Game, the Alaska Department of Natural Resources, Division of Mining, Land and Water, Water Resources Section, and the Southern Southeast Regional Aquaculture Association were signatories to the Settlement Agreement.

The final EA contains the staff's analysis of the potential environmental effects of the proposed project and concludes that licensing the project, with appropriate environmental protective measures, would not constitute a major federal action that would significantly affect the quality of the human environment.

Copies of the final EA are available for review in Public Reference Room 2-A of the Commission's offices at 888 First Street, NE., Washington, DC. The final EA may also be viewed on the Commission's Internet Web site (http://www.ferc.gov) using the “eLibrary” link. Enter the docket number excluding the last three digits in the docket number field to access the document. Additional information about the project is available from the Commission's Office of External Affairs, at (202) 502-6088, or on the Commission's Web site using the eLibrary link. For assistance with eLibrary, contact FERCOnlineSupport@ferc.gov or toll-free at (866) 208-3676; for TTY contact (202) 502-8659.

For further information, contact Kenneth Hogan at (202) 502-8434 or by e-mail at kenneth.hogan@ferc.gov.

Kimberly D. Bose,
Secretary.

[FR Doc. E8-15701 Filed 7-9-08; 8:45 am]

BILLING CODE 6717-01-P